DEPARTMENT OF HEALTH AND HUMAN SERVICES

Centers for Disease Control and Prevention

[60Day-03-85]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: 2003 Tribal Adult Tobacco Survey (ATS)—New—National Center for Chronic Disease Prevention and Health Promotion (NCCDPHP), Centers for Disease Control and Prevention (CDC).

The purpose of this project is to test and pilot a culturally appropriate Adult Tobacco Survey questionnaire for American Indians and Alaska Natives. This questionnaire will expand data and existing knowledge of tobacco use among American Indians and Alaska Natives in order to benefit tobacco use and prevention surveillance at a tribal, state, and/or regional level. The questions will help to narrow existing gaps in knowledge of tobacco use among different tribes and inform development of tribal-specific interventions.

Current smoking prevalence among American Indians and Alaska Natives (36.0 percent) is highest compared to all other racial/ethnic groups (2000 NHIS). While national and regional data exist for American Indians and Alaska Natives, tribal level data is extremely limited. Currently, there are over 500 sovereign tribal nations in the U.S. In order to better understand tobacco use among American Indians and Alaska Natives, CDC is conducting a survey project that includes:

(1) Developing a culturally appropriate Adult Tobacco Survey questionnaire for tribes.

(2) Piloting the final instrument in approximately 30 tribes represented by six of seven Tribal Support Centers (TSCs).

In an effort to better understand the effects of smoking in American Indian and Alaska Native populations, the Support Centers for Tobacco Programs (SCTP) will utilize a culturally appropriate questionnaire for pilot implementation in six different tribal centers. The centers are located in Alaska, California, Oklahoma, Michigan, along with two tribal centers located in the upper Midwest and Northwest. In total, the SCTPs will collect approximately 2,400-2,800 completed surveys (the number varying by Center respective to the size of each tribe, 18 years of age and older), which will be representative of distinct tribal communities conducting the survey. The SCTP will be responsible for obtaining the completed surveys. Trained individuals from each of the respective communities and/or support centers will conduct interviews. Most interviews will be conducted face-to-face, with a small proportion conducted by telephone. There is no cost to respondents.

Respondents | No. of respondents | No. of responses/respondent | Avg. burden/response (in hrs.) | Total burden (in hrs.)
Pilot Survey: Tribal members 18 years of age and older | 2,800 | 1 | 45/60 | 2,100
Total |  |  |  | 2,100

Dated: June 30, 2003.
Thomas A. Bartenfeld,
Acting Associate Director for Policy, Planning and Evaluation, Centers for Disease Control and Prevention.

[FR Doc. 03-17014 Filed 7-3-03; 8:45 am]

BILLING CODE 4163-18-P